RAILROAD RETIREMENT BOARD

20 CFR Part 341

RIN 3220-AB60

Electronic Filing of Settlement and Final Judgment Notices by Railroad Employers

AGENCY: Railroad Retirement Board.

ACTION: Proposed rule.

SUMMARY: The Railroad Retirement Board (Board) proposes to amend its regulations to include the option of electronic notification by railroad employers of settlements and final judgments based on an injury for which sickness benefits have been paid under the Railroad Unemployment Insurance Act (RUIA). Part 341 currently requires that notifications of settlements and final judgments be submitted to the Board in writing. The proposed rule would allow these notifications to be made by railroad employers either in writing or by sending an electronic message, e.g. via e-mail.

DATES: Submit comments on or before February 7, 2006.

ADDRESSES: Address any comments concerning this proposed rule to Beatrice Ezerski, Secretary to the Board, Railroad Retirement Board, 844 North Rush Street, Chicago, Illinois 60611-2092.

FOR FURTHER INFORMATION CONTACT: Marguerite P. Dadabo, Assistant General Counsel, (312) 751-4945, TTD (312) 751-4701.

SUPPLEMENTARY INFORMATION: Part 341 of the Board's regulations deals with the notification of settlements and final judgments based on an injury for which sickness benefits have been paid under the Railroad Unemployment Insurance Act (RUIA). Currently, the regulations require all individuals or companies to make notifications of settlements and final judgments in writing to the Board. These revisions allow railroad employers to also notify the Board electronically in these instances, e.g. via e-mail.

Section 341.6(a) is proposed to be amended to allow railroad employers to notify the Board, in writing or electronically in the manner prescribed by the agency, of a settlement or final judgment based on an injury for which the employee received sickness benefits. In addition, the proposed rule would amend sections 341.8(a) and 341.8(b) to allow a railroad employer to notify the Board electronically or in writing. Also, sections 341.8(b) and (c) are proposed to be amended to change the outdated references of “Division of Claims Operations” and “Bureau of Unemployment and Sickness Insurance” to the correct reference of “Sickness and Unemployment Benefits Section”.

There is an information collection impacted by the proposed rule:

In accordance with the Paperwork Reduction Act of 1995 (44 U.S.C. Chapter 35), the Railroad Retirement Board (RRB) has submitted the following proposal(s) for the collection of information to the Office of Management and Budget for review and approval.

Summary of Proposal(s)

(1) Collection title: Supplemental Information on Accident and Insurance.

(2) Form(s) submitted: SI-1c, SI-5, ID-3s, ID-3s-1, ID-3u, ID-30k, ID-30k-1.

(3) OMB Number: 3220-0036.

(4) Expiration date of current OMB clearance: 06/30/2008.

(5) Type of Request: Revision of a currently approved collection.

(6) Respondents: Business or other for-profit.

(7) Estimated annual number of respondents: 10,000.

(8) Total annual responses: 28,500.

(9) Total annual reporting hours: 1,693.

(10) Collection description: The Railroad Unemployment Insurance Act (RUIA) provides for the recovery of sickness benefits if an employee receives a settlement for the same injury for which benefits were paid. The collection obtains information about the person or company responsible for such payments that is needed to determine the RRB's amount of entitlement.

Under Section 12(o) of the RUIA, the Railroad Retirement Board is entitled to reimbursement of the sickness benefits paid to a railroad employee if the employee receives a sum or damages for the same infirmity for which the benefits are paid. Section 2(f) of the RUIA requires employers to reimburse the RRB for days for which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Form(s) SI-1c, (Supplemental Information on Accident and Insurance), SI-5 (Report of Payments to Employee Claiming Sickness Benefits Under the RUIA), ID-3s (Request for Lien Information), ID-3s-1, (Lien Information Under Section 12(o) of the RUIA), ID-3u (Request for Section 2(f) Information), ID-30k (Form Letter Asking Claimant for Additional Information on Injury or Illness), and ID-30k-1 (Request for Supplemental Information on Injury or Illness-3rd Party), to obtain the necessary information from claimants and railroad employers.

The RRB proposes to implement an E-mail equivalent of Form ID-3s and ID-3u. No other changes are proposed to the information collection. Completion is required to obtain or retain benefits. One response is requested of each respondent.

Estimate of Annual Respondent Burden

The estimated annual respondent for this collection is as follows:

Form #(s) | Annual responses | Time (minutes) | Burden (hours)
SI-1c | 1,000 | 5 | 83
SI-5 | 2,500 | 5 | 208
ID-3s | 9,250 | 3 | 463
ID-3s (E-mail) | 9,250 | 3 | 463
ID-3s.1 | 500 | 3 | 25
ID-3u | 750 | 3 | 38
ID-3u (E-mail) | 750 | 3 | 38
ID-30k | 2,000 | 5 | 167
ID-30k.1 | 2,500 | 5 | 208
Total | 28,500 |  | 1,693

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

To request more information or to obtain a copy of the information collection justification, forms, and/or supporting material, please contact the RRB Clearance Officer at (312) 751-3363 or Charles.Mierzwa@rrb.gov. Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503. Comments can be received from 30 days of publication up to the close of the rules comment period but comment to OMB will be most useful if received by OMB within 30 days of publication of this notice.

The Board, with the concurrence of the Office of Management and Budget, has determined that this is not a significant regulatory action under Executive Order 12866. Therefore, no regulatory impact analysis is required. The information collection is currently approved under control number 3220-0171; however, the proposed rule impacts the information collection and will be forwarded to OMB along with the Notice of Proposed Rulemaking.

List of Subjects in 20 CFR Part 341

Railroad unemployment insurance, Reporting and recordkeeping requirements.

For the reasons set out in the preamble, the Railroad Retirement Board proposes to amend title 20, chapter II, subchapter C, part 341 of the Code of Federal Regulations as follows:

PART 341—STATUTORY LIEN WHERE SICKNESS BENEFITS PAID

1. The authority citation for part 341 continues to read as follows:

Authority: 45 U.S.C. 362(o).

2. Revise § 341.6(a) introductory text to read as follows:

§ 341.6 Report of settlement or judgment.

(a) When a person or company makes a settlement or must satisfy a final judgment based on an injury for which the employee received sickness benefits, the person or company shall notify the Board of the settlement or final judgment. That notice shall be in writing and submitted within five days of the settlement or final judgment. A railroad employer may fulfill the written notice requirement by sending an electronic message in the manner prescribed by the agency. That notification shall contain:

* * * * *

3. Amend § 341.8 as follows:

a. Add a new sentence to the end of paragraph (a);

b. Revise paragraph (b); and

c. Amend paragraph (c) by removing the phrase “Division of Claims Operations” and adding the phrase “Sickness and Unemployment Benefits Section” in its place.

The additions and revisions read as follows:

§ 341.8 Termination of sickness benefits due to a settlement.

(a) * * * A railroad employer may file the required report by sending an electronic message in the manner prescribed by the agency.

(b) A report of settlement shall be made to the Sickness and Unemployment Benefits Section and shall include the information required in § 341.6. Where the report is an oral report, and the informant is neither the employee nor his or her representative, the informant shall be told that written confirmation containing the information called for by § 341.6 must be submitted to the Board within 5 days from the date of the oral report. A railroad employer may fulfill the written report requirement by sending an electronic message in the manner prescribed by the agency.

* * * * *

Dated: November 30, 2005.
By authority of the Board.
For the Board:
Beatrice Ezerski,
Secretary to the Board.

[FR Doc. 05-23606 Filed 12-8-05; 8:45 am]

BILLING CODE 7905-01-P